DEPARTMENT OF JUSTICE

Drug Enforcement Administration

[Docket No. 04-34]

Richard Daniel Price, MD.; Revocation of Registration

On March 15, 2004, the Deputy Assistant Administrator, Office of Diversion Control, Drug Enforcement Administration (DEA), issued an Order to Show Cause to Richard Daniel Price, M.D. (Dr. Price) of Birmingham, Alabama, notifying him of an opportunity to show cause as to why DEA should not revoke his DEA Certificate of Registration, BP4769949, as a practitioner, pursuant to 21 U.S.C. 824(a)(3) and deny any pending applications for renewal of that registration pursuant to 21 U.S.C. 823(f). As a basis for revocation, the Order to Show Cause alleged that Dr. Price's license to practice medicine in Alabama had been revoked and accordingly, he was not authorized to handle controlled substances in Alabama, the state in which he is registered.

On May 3, 2004, Dr. Price, acting pro se, timely requested a hearing in this matter. On May 5, 2004, Presiding Administrative Law Judge Mary Ellen Bittner (Judge Bittner) issued the Government, as well as Dr. Price, an Order for Prehearing Statements. In lieu of filing a prehearing statement, the Government filed its Motion for Summary Judgment and to Stay the Time to File Prehearing Statements if Necessary. The Government argued Dr. Price's license to practice medicine in Alabama had been revoked, that he was without authorization to handle controlled substances in that state and, as a result, further proceedings in the matter were not required. Attached to the government's motion was a copy of the Alabama Medical Licensure Commission's Order of March 31, 2003, revoking Dr. Price's license to practice medicine in that state.

On May 13, 2004, Judge Bittner issued an Order and Notice providing Dr. Price an opportunity to respond to the Government's motion. Dr. Price did not file a response. On June 28, 2004, Judge Bittner issued her Opinion and Recommended Decision of the Administrative Law Judge (Opinion and Recommended Decision). As part of her recommended ruling, Judge Bittner granted the Government's Motion for Summary Judgment, finding Dr. Price lacked authorization to handle controlled substances in Alabama, the jurisdiction in which he is registered. Judge Bittner recommended that Dr. Price's DEA registration be revoked and any pending applications for renewal or modification of that registration be denied. No exceptions were filed by either party to the Opinion and Recommended Decision and on August 10, 2004, the record of these proceedings was transmitted to the Office of the DEA Deputy Administrator.

The Deputy Administrator has considered the record in its entirety and pursuant to 21 CFR 1316.67, hereby issues her final order based upon findings of fact and conclusions of law as hereinafter set forth. The Deputy Administrator adopts, in full, the Opinion and Recommended Decision of the Administrative Law Judge.

The Deputy Administrator finds that Dr. Price holds DEA Certificate of Registration, BP4769949, which expires on March 31, 2005. The Deputy Administrator further finds that, effective as of March 31, 2003, the Medical Licensure Commission of Alabama revoked Dr. Price's Alabama medical license based on his conviction of a felony, a violation of Alabama Code 34-24-360(5) (1997). There is no evidence in the record indicating that the Commission's order has been stayed or rescinded or that Dr. Price's license has been reinstated. Therefore, the Deputy Administrator finds that Dr. Price is currently not licensed to practice medicine in Alabama and, as a result, it is reasonable to infer that he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Kanwaljit S. Serai, M.D., 68 FR 48943 (2003); Dominick A. Ricci, M.D., 58 FR 51104 (1993); Bobby Watts, M.D., 53 FR 11919 (1988).

Here, it is clear that Dr. Price is not currently authorized to handle controlled substances in Alabama, where he is registered with DEA. Therefore, he is not entitled to maintain that registration. Accordingly, the Deputy Administrator of the Drug Enforcement Administration, pursuant to the authority vested in her by 21 U.S.C. 823 and 824 and 28 CFR 0.100(b) and 0.104, hereby orders that DEA Certificate of Registration, BP4769949, issued to Richard Daniel Price, M.D., be, and it hereby is, revoked. The Deputy Administrator further orders that any pending applications for renewal or modification or such registration be, and they hereby are, denied. This order is effective November 22, 2004.

Dated: October 5, 2004.
Michele M. Leonhart,
Deputy Administrator.

[FR Doc. 04-23711 Filed 10-21-04; 8:45 am]

BILLING CODE 4410-09-M